DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Federally Qualified Health Centers (FQHC) Application Forms: (OMB No. 0915-0285 Revision)

HRSA's Bureau of Primary Health Care (BPHC) FQHCs are a major component of America's health care safety net, the Nation's “system” of providing health care to low-income and other vulnerable populations. Health centers care for people regardless of their ability to pay and whether or not they have health insurance. They provide primary and preventive health care, as well as services such as transportation and translation. Many health centers also offer dental, mental health, and substance abuse care. FQHCs are administered by HRSA's BPHC.

HRSA uses the following application forms to administer and manage FQHCs. These application forms are used by new and existing FQHCs to apply for grant and non-grant opportunities, re-new their grant or non-grant opportunities, or change their scope of project.

Estimated of annualized reporting burden are as follows:

Type of application form | Number of respondents | Responses per respondent | Total number of responses | Hours per response | Total burden hours
General Information Worksheet | 1,021 | 1 | 1,021 | 3.0 | 3,063
P12 Planning General Information Worksheet | 300 | 1 | 300 | 12.0 | 3,600
BPHC Funding Request Summary | 1,021 | 1 | 1,021 | 0.5 | 510
Institutional File Assurances | 1,021 | 1 | 1,021 | 0.5 | 510
Proposed Staff Profile | 1,021 | 1 | 1,021 | 6.0 | 6,126
Income Analysis Form | 1,021 | 1 | 1,021 | 15.0 | 15,315
Community Characteristics | 1,021 | 1 | 1,021 | 12.0 | 12,252
Services Provided | 1,021 | 1 | 1,021 | 0.5 | 510
Sites Listing | 1,021 | 1 | 1,021 | 1.0 | 1,021
Other Site Activities | 700 | 1 | 700 | 0.5 | 350
Board Member Characteristics | 1,021 | 1 | 1,021 | 1.0 | 1,021
Request for Waiver of Governance Requirements | 150 | 1 | 150 | 1.0 | 150
Compliance Matrix | 1,021 | 1 | 1,021 | 0.5 | 510
Health Center Affiliation Certification | 250 | 1 | 250 | 0.5 | 125
Need for Assistance | 900 | 1 | 900 | 6.0 | 5,400
Emergency Preparedness Form | 1,021 | 1 | 1,021 | 1.0 | 1,021
FTCA Form | 800 | 1 | 800 | 1.0 | 800
Points of Contact | 800 | 1 | 800 | 0.5 | 400
Total | 15,131 |  | 15,131 |  | 52,684

Send comments to Susan G. Queen, Ph.D., HRSA Reports Clearance Officer, Room 14-33, Parklawn Building, 5600 Fishers Lane, Rockville, MD 20857. Written comments should be received within 60 days of this notice.

Dated: March 27, 2007.
Alexandra Huttinger,
Acting Director, Division of Policy Review and Coordination.

[FR Doc. E7-6089 Filed 4-2-07; 8:45 am]

BILLING CODE 4165-15-P